DEPARTMENT OF HEALTH AND HUMAN SERVICES

Centers for Disease Control and Prevention

[Program Announcement 04183]

Rapid Expansion of the Capacity of the Cote d'Ivoire Ministry of Solidarity, Security, Social Affairs and Disabled Persons To Coordinate and Improve the Coverage and Quality of Care and Support Activities for Orphans, Vulnerable Children and Other HIV-Affected Persons and Families Under the President's Emergency Plan for AIDS Relief; Notice of Intent To Fund Single Eligibility Award

A. Purpose

The Centers for Disease Control and Prevention (CDC) announces the intent to fund fiscal year (FY) 2004 funds for a cooperative agreement program to help the Ministry of Solidarity, Security, Social Affairs, and Disable Persons (MSSSH) of Cote d'Ivoire to rapidly expand their capacity to coordinate expanded quality HIV/AIDS prevention, care and support activities for particularly vulnerable segments of the population, such as orphans and other vulnerable children, and HIV-affected persons and families. MSSSH will be better able to facilitate the vulnerable populations' access to information and quality support services. This program also directly addresses goals of the President's Emergency Plan for AIDS Relief to turn the tide of HIV/AIDS in Africa and the Caribbean. The Catalog of Federal Domestic Assistance number for this program is 93.941.

B. Eligible Applicant

Assistance will be provided only to The Ministry of Solidarity, Security, Social Affairs, and Disabled Persons (MSSSH) of Cote d'Ivoire. This Ministry is mandated by the government of Cote d'Ivoire to coordinate activities for the target groups named in this announcement (i.e., orphans, vulnerable children, HIV-affected families, and social workers) and is, therefore, the most direct route to reaching these populations with information, services and training for HIV/AIDS prevention, care and support.

C. Funding

Approximately $200,000 is available in FY 2004 to fund this award. It is expected that the award will begin on or before August 1, 2004, and will be made for a 12-month budget period within a project period of up to 5 years. Funding estimates may change.

D. Where To Obtain Additional Information

For general comments or questions about this announcement, contact: Technical Information Management, CDC Procurement and Grants Office, 2920 Brandywine Road, Atlanta, GA 30341-4146, telephone: 770-488-2700.

For program technical assistance, contact: Karen Ryder, Project Officer, CDC/Project RETRO-CI, 2010 Abidjan Place, Dulles, Virginia 20189-2010, telephone: (225) 21-25-41-89, e-mail: kkr1@cdc.gov.

For financial, grants management, or budget assistance, contact: Shirley Wynn, Grants Management Specialist, CDC Procurement and Grants Office, 2920 Brandywine Road, Atlanta, GA 30341, telephone: 770-488-1515, e-mail: zbx6@cdc.gov.

Dated: June 18, 2004.
William P. Nichols,
Acting Director, Procurement and Grants Office, Centers for Disease Control and Prevention.

[FR Doc. 04-14308 Filed 6-23-04; 8:45 am]

BILLING CODE 4163-18-P